FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 21, 2018.

A. Federal Reserve Bank of Kansas City (Dennis Denney, Assistant Vice President) 1 Memorial Drive, Kansas City, Missouri 64198-0001:

1. Catherine L. Cattle, Seward, Nebraska, as trustee of multiple family trusts, to retain shares of Cattle Crossing, Inc., Seward, Nebraska, and thereby retain shares of Cattle Bank & Trust, Seward, Nebraska; Additionally, the following persons applied to retain shares of Cattle Crossing, Inc. and thereby become members of the Cattle Family Group, which acting in concert controls shares of Cattle Crossing, Inc.: Roger D. Cattle, Lincoln, Nebraska, John T. Cattle, Overland Park, Kansas, Whitney M. Cattle, St. Joseph, Missouri, Clarke D. Ralston, Chicago, Illinois, Kylie M. Dews, Lincoln, Nebraska, Connor V. Dews, Lincoln, Nebraska, Calvin P. Schneider, Isanti, Minnesota, Elsie G. Schneider, Isanti, Minnesota, Ellis V. Ralston, Chicago, Illinois, the WMC Irrevocable Trust, Seward, Nebraska, the Roger D. Cattle Irrevocable Trust, Seward, Nebraska and the John T. Cattle Irrevocable Trust, Seward, Nebraska.

Board of Governors of the Federal Reserve System, May 31, 2018.
Ann Misback,
Secretary of the Board.

[FR Doc. 2018-12042 Filed 6-4-18; 8:45 am]

BILLING CODE P